DEPARTMENT OF ENERGY

Federal Energy Regulatory Commission

TransAlta Energy Marketing (US), Inc. et al.; Notice of Issuance of Orders

March 28, 2000.

| Docket Nos.
In the matter of:
TransAlta Energy Marketing (US), Inc | ER98-3184-000
CinCap V, LLC | ER98-4055-000
Southern Energy California, L.L.C | ER99-1841-000
Sierra Pacific Energy Company | ER00-500-000
Storm Lake Power Partners I, LLC | ER98-4643-000
Southern Energy Potrero, L.L.C | ER99-1833-000
Southern Energy Delta, L.L.C | ER99-1842-000
O'Brien (Philadelphia) Cogeneration, Inc | ER00-644-000
Portland General Electric Co | ER98-1643-000
Portland General Electric Company | ER99-1263-000
AG Energy, L.P | ER98-2782-000
Great Bay Power Corporation | ER98-3470-000
Cadillac Renewable Energy LLC | ER98-4515-000
Boralex Stratton Energy Inc | ER98-4652-000
Dighton Power Associates. L.P | ER99-616-000
AEE 2, L.L.C | ER99-2284-000
Sithe New Jersey Holdings LLC | ER99-3692-000
Rayburn County Electric Cooperative, Inc | ER00-23-000
Merchant Energy Group of the Americas, Inc | ER98-1055-000
Western Energy Marketers, Inc | ER98-537-000
TransCanada Power Marketing Ltd | ER98-564-000
Equinox Energy, LLC | ER98-1486-000
Energy Unlimited, Inc | ER98-1622-000
Competisys LLC | ER98-1790-000
Pacific Energy & Development Corporation | ER98-1824-000
Bollinger Energy Corporation | ER98-1821-000
Micah Tech Industries, Inc | ER98-1221-000
XERXE Group, Inc | ER98-1823-000
Eastern Pacific Energy | ER98-1829-000
Kamps Propane, Inc | ER98-1148-000
Polaris Electric Power Company | ER98-1421-000
American Home Energy Corporation | ER98-1903-000
People's Utility Corporation | ER98-2232-000
Nine Energy Services, LLC | ER98-1915-000
Salem Electric, Inc | ER98-2175-000
First Choice Energy | ER98-2181-000
PG Energy Power Plus | ER98-1953-000
Energy International Power Marketing Corporation | ER98-2059-000
Hafslund Energy Trading LLC | ER98-2535-000
The FURSTS Group, Inc | ER98-2423-000
Spare, LLC | ER98-2671-000
Energy PM, Inc. | ER98-2918-000
Econnergy Energy Company, Inc | ER98-2553-000
Nicole Energy Services | ER98-2683-000
TransCurrent, LLC | ER98-1297-000
Pelican Energy Management, Inc | ER98-3084-000
Rainbow Power USA LLC | ER98-3012-000
Electrion, Incorporated | ER98-3171-000
Environmental Resources Trust, Inc | ER98-3233-000
Rocky Mountain Natural Gas & Electric LLC | ER98-3108-000
Astra Power LLC | ER98-3378-000
Fortistar Power Marketing LLC | ER98-3393-000
JMF Power Marketing | ER98-3433-000
Reliable Energy, Inc. | ER98-3261-000
Northeast Electricity Inc | ER98-3048-000
American Premier Energy Corporation | ER98-3451-000
3E Technologies, Inc | ER98-3809-000
ONEOK Power Marketing Company | ER98-3897-000
Navarco Ltd | ER98-4139-000
Panda Guadalupe Power Marketing, LLC | ER98-3901-000
Omni Energy | ER98-3344-000
Primary Power Marketing, L.L.C | ER98-4333-000
International Energy Ventures, Inc | ER98-4264-000
Abacus Group Ltd | ER98-4240-000
ENMAR Corporation | ER99-254-000
ACN Power, Inc. | ER98-4685-000
Golden Valley Power Company | ER98-4334-000
Lakeside Energy Services, LLC | ER99-505-000
Metro Energy Group, LLC | ER99-801-000
River City Energy, Inc | ER99-823-000
Business Discount Plan, Inc | ER99-581-000
Commodore Electric | ER99-1890-000
CP Power Sales 15, LLC | ER99-890-000
CP Power Sales 14, LLC | ER99-891-000
CP Power Sales 13, LLC | ER99-892-000
CP Power Sales 12, LLC | ER99-893-000
CP Power Sales 11, LLC | ER99-894-000
CP Power Sales Eleven, LLC | ER99-3202-000
Merrill Lynch Capital Services, Inc | ER99-830-000
Salko Energy Services, Inc | ER99-1052-000
Michigan Gas Exchange, L.L.C | ER99-1156-000
StratErgy, Inc | ER99-1410-000
SkyGen Energy Marketing LLC | ER99-972-000
The Legacy Energy Group, LLC | ER99-3571-000
Cielo Power Market, L.P. | ER99-964-000
Enjet, Inc | ER99-2061-000
Shell Energy Services Company, LLC | ER99-2109-000
Alliance Energy Services Partnership | ER99-1945-000
ECONnergy PA, Inc | ER99-1837-000
Trident Energy Marketing, Inc | ER99-2069-000
Total Gas & Electricity (PA), Inc | ER99-2182-000
TransAlta Energy Marketing (CA) Inc | ER99-2343-000
NJR Energy Services Company | ER99-2384-000
Agway Energy Services—PA, Inc | ER99-2313-000
Genstar Energy, L.L.C | ER99-2364-000
GreenMountain.com | ER99-4324-000
Old Mill Power Company | ER99-2883-000
Delta Energy Group | ER99-2970-000
Navitas, Inc | ER99-2537-000
Nautilus Energy Company | ER98-2618-000
Full Power Corporation | ER99-2540-000
Complete Energy Services, Inc | ER99-3033-000
Occidental Power Marketing, L.P | ER99-3665-000
Energy Cooperative of Western New York, Inc | ER99-3411-000
FPH Electric, L.L.C | ER99-3142-000
Power Management Co., LLC | ER99-3275-000
MCHC—Shared Services, Inc | ER99-3705-000
International Energy Consultants, Inc | ER99-3130-000
CP Power Sales 19, L.L.C | ER99-4338-000
CP Power Sales 17, L.L.C | ER99-4229-000
CP Power Sales 18, L.L.C | ER99-4230-000
CP Power Sales 20, L.L.C | ER99-4231-000
Sandia Resources Corporation | ER99-4044-000
InPower Marketing Corporation | ER99-3964-000
SmartEnergy.Com, Inc | ER00-140-000
Strategic Energy Management Corporation | ER00-167-000
PG Power Sales Three, L.L.C | ER00-954-000
PG Power Sales One, L.L.C | ER00-955-000
PG Power Sales Two, L.L.C | ER00-956-000
Nordic Marketing, L.L.C | ER00-774-000
Energy West Resources, Inc | ER00-874-000
Alrus Consulting, LLC | ER00-861-000
Sithe PA Holdings LLC | ER99-4245-000
Sithe Mystic LLC | ER99-2671-000
AG Energy, L.P | ER98-2782-000

The above-captioned applicants (Applicants) submitted for filing a rate schedule under which the Applicants will engage in wholesale electric power and energy transactions as a marketer. The Applicants also requested waiver of various Commission regulations. In particular, the Applicants requested that the Commission grant blanket approval under 18 CFR part 34 of all future issuances of securities and assumptions of liability by the Applicants.

Pursuant to delegated authority, the Director, Division of Rate Applications, Office of Electric Power Regulations, granted requests for blanket approval under Part 34, subject to the issuance of notices providing for an opportunity to be heard. Accordingly:

Within thirty days of the date of this notice, any person desiring to be heard or to protest the blanket approval of issuances of securities or assumptions of liability by the Applicants should file a motion to intervene or protests with the Federal Energy Regulatory Commission, 888 First Street, NE, Washington, DC 20426, in accordance with Rules 211 and 214 of the Commission's Rules of Practice and Procedure (18 CFR 385.211 and 385.214).

Absent a request for hearing within this period, the Applicants are authorized to issue securities and assume obligations or liabilities as a guarantor, indorser, surety, or otherwise in respect of any security of another person; provided that such issuance or assumption is for some lawful object within the corporate purposes of the applicant, and compatible with the public interest, and is reasonably necessary or appropriate for such purposes.

The Commission reserves the right to require a further showing that neither public nor private interests will be adversely affected by continued approval of the Applicants' issuances of securities or assumptions of liability.

Notice is hereby given that the deadline for filing motions to intervene or protests, as set forth above, is April 28, 2000.

Copies of the full text of the Orders are available from the Commission's Public Reference Branch, 888 First Street, NE, Washington, DC 20426. The Order may also be viewed on the Internet at http://www.ferc.fed.us/online/rims.htm (call 202-208-2222 for assistance).

David P. Boergers,
Secretary.

[FR Doc. 00-8065 Filed 3-31-00; 8:45 am]

BILLING CODE 6717-01-M